DEPARTMENT OF ENERGY

Federal Energy Regulatory Commission

[Docket No. RM05-2-000]

Policy for Selective Discounting by Natural Gas Pipelines; Errata Notice

January 26, 2005.

On January 25, 2005, the Commission issued a Notice of Extension of Time in the above-docketed proceeding. The date for filing comments should be changed from “May 2, 2005” to “March 2, 2005”. Comments on the NOI are due March 2, 2005.

Magalie R. Salas,
Secretary.

[FR Doc. E5-423 Filed 2-3-05; 8:45 am]

BILLING CODE 6717-01-P